DEPARTMENT OF ENERGY

Federal Energy Regulatory Commission

[Docket No. RP02-133-000]

Williston Basin Interstate Pipeline Company; Notice of Fuel Reimbursement Charge Filing

January 8, 2002.

Take notice that on December 31, 2001, Williston Basin Interstate Pipeline Company (Williston Basin), tendered for filing as part of its FERC Gas Tariff, Second Revised Volume No. 1 and Original Volume No. 2 the following revised tariff sheets to become effective February 1, 2002:

Second Revised Volume No. 1

Forty-Fifth Revised Sheet No. 15

Twenty-Third Revised Sheet No. 15A

Forty-Sixth Revised Sheet No. 16

Twenty-Third Revised Sheet No. 16A

Forty-Fourth Revised Sheet No. 18

Twenty-Third Revised Sheet No. 18A

Twenty-Third Revised Sheet No. 19

Twenty-Third Revised Sheet No. 20

Fortieth Revised Sheet No. 21

Original Volume No. 2

Eighty-Ninth Revised Sheet No. 11B

Williston Basin states that the revised tariff sheets reflect revisions to the fuel reimbursement charge and percentage components of the Company's relevant gathering, transportation and storage rates, pursuant to Williston Basin's Fuel Reimbursement Adjustment Provision contained in Section 38 of the General Terms and Conditions of its FERC Gas Tariff, Second Revised Volume No. 1.

Any person desiring to be heard or to protest said filing should file a motion to intervene or a protest with the Federal Energy Regulatory Commission, 888 First Street, N.E., Washington, DC 20426, in accordance with sections 385.214 or 385.211 of the Commission's Rules and Regulations. All such motions or protests must be filed on or before January 15, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-829 Filed 1-11-02; 8:45 am]

BILLING CODE 6717-01-P